NUCLEAR REGULATORY COMMISSION

Risk-Based Performance Indicators: Results of Phase-1 Development

AGENCY: Nuclear Regulatory Commission.

ACTION: Extension of comment period.

SUMMARY: The Nuclear Regulatory Commission announced the availability of the draft document entitled: “Risk-Based Performance Indicators: Results of Phase-1 Development,” dated January 2001 for review and comment by external stakeholders in a document published in the February 1, 2001 Federal Register (66 FR 8606). Interested individuals may obtain a copy of this document from the person identified under the caption: FOR FURTHER INFORMATION CONTACT. As a result of comments received during the February 21, 2001 meeting, the NRC is extending the comment period to allow the industry to incorporate insights from the April 24, 2001 public meeting into their written comments. In addition, the NRC is interested in receiving comments on specific topics reviewers wish to discuss at the April 24, 2001 meeting. Reviewers are requested to contact Mr. Hossein Hamzehee at 301-415-6228 or hgh@nrc.gov by April 17, 2001, with comments or issues they wish to have addressed at the April 24, 2001 meeting.

DATES: Submit comments by May 14, 2001. Comments received after this date will be considered if it is practical to do so, but the Commission is able to ensure consideration only for comments received on or before this date.

A public meeting will be held on April 24, 2001 from 8:30 a.m. to 12:30 p.m. The purpose of this meeting is to discuss external stakeholder comments on the results of Phase-1 RBPI development, and the technical feasibility of applying these concepts in the Reactor Oversight Process.

ADDRESSES: Submit comments to: Chief, Rules and Directives Branch, U.S. Nuclear Regulatory Commission, Washington, DC 20555-0001.

Deliver comments to: 11545 Rockville Pike, Rockville, Maryland, between 7:30 a.m. and 4:15 p.m. Federal workdays.

The public meeting will be held at Two White Flint North Auditorium, 11545 Rockville Pike, Rockville, Maryland 20852.

The draft document and certain other documents related to this action, including comments received, may be examined in the NRC Public Document Room, 11555 Rockville Pike, Rockville, Maryland.

FOR FURTHER INFORMATION CONTACT: Hossein G. Hamzehee, Division of Risk Analysis and Applications, Office of Nuclear Regulatory Research, U.S. Nuclear Regulatory Commission, Washington, DC 20555-0001. Telephone: 301-415-6228, e-mail: hgh@nrc.gov

Dated at Rockville, Maryland, this 8th day of March, 2001.
For the Nuclear Regulatory Commission.
Thomas L. King,
Director, Division of Risk Analysis and Applications, Office of Nuclear Regulatory Research.

[FR Doc. 01-6618 Filed 3-15-01; 8:45 am]

BILLING CODE 7590-01-P